DEPARTMENT OF HOMELAND SECURITY

Coast Guard

[Docket No. USCG-2008-0110]

Towing Safety Advisory Committee; Meetings

AGENCY: Coast Guard, DHS.

ACTION: Notice of meetings.

SUMMARY: The Towing Safety Advisory Committee (TSAC) and its working groups on the Medical Navigation and Vessel Inspection Circular (NVIC) and on the Inspection of Towing Vessels will meet in Jeffersonville, IN. The committee will also discuss various issues relating to shallow-draft inland and coastal waterway navigation and towing safety. All meetings will be open to the public.

DATES: The working groups will meet on Tuesday, April 1, 2008, from 8 a.m. to 5 p.m. TSAC will meet on Wednesday, April 2, 2008, from 8 a.m. to 3 p.m. These meetings may close early if all business is finished. Written material and requests to make oral presentations at the meetings should reach the Coast Guard on or before March 24, 2008. Requests to have a copy of your material distributed to each member of the Committee or working groups should reach the Coast Guard electronically on or before March 24, 2008.

ADDRESSES: The working groups and TSAC will meet at the offices of American Commercial Lines; 1701 East Market Street, Jeffersonville, IN 47130 Phone: 812-288-0347. TSAC is utilizing Louisville Airport (SDF) and the Residence Marriott Hotel Downtown Louisville, KY. The link to the hotel's Web site is: http://www.marriott.com/hotels/travel/sdfgj-residence-inn-louisville-downtown/.

Send written material and requests to make oral presentations to TSAC's Assistant Executive Director in the FOR FURTHER INFORMATION CONTACT section below. This notice and related documents are available on the Internet at www.regulations.gov under the docket number USCG-2008-0110.

FOR FURTHER INFORMATION CONTACT: Mr. Gerald P. Miante, Assistant Executive Director, TSAC; U.S. Coast Guard Headquarters, CG-5221, Room 1210; 2100 Second Street, SW., Washington, DC 20593-0001. Telephone (202) 372-1401, fax (202) 372-1926, or e-mail at: Gerald.P.Miante@uscg.mil.

SUPPLEMENTARY INFORMATION: Notice of these meetings is given under the Federal Advisory Committee Act, 5 U.S.C. App. (Pub. L. 92-463)].

Agenda of Meetings

Towing Vessel Inspection Working Group. The agenda for the working group is to prepare draft recommendations to the committee on the latest round of draft text for inspections.

Medical NVIC Working Group. The agenda for the working group is to prepare draft recommendations to the committee on the draft medical NVIC, and revisions to the Medical Forms CG-719K and 719-KE.

Towing Safety Advisory Committee. The agenda for the committee is as follows:

(1) Update of the Towing Vessel Inspection Working Group;

(2) Discussion and voting on recommendations for the Medical and Physical Evaluation Guidelines for Merchant Mariner Credentials (Medical NVIC), and Medical Forms CG-719K and 719K-E;

(3) Update on the Legislative Change Proposal (LCP) to form the Merchant Mariner Medical Advisory Committee;

(4) Update on the Merchant Mariner Credential (MMC) Rulemaking;

(5) Update on the STCW Rulemaking;

(6) Update on Training and Service Requirements for Merchant Marine Officers;

(7) Update on Commercial/Recreational Boating Interface;

(8) Update on the National Maritime Center (NMC) Restructuring/Centralization;

(9) Update on the Transportation Worker Identification Credential (TWIC); and

(10) Discussion and voting on Task Statement 08-01, Review and recommendations for the revision of NVIC 4-01 “Licensing and Manning for Officers of Towing Vessels.”

Procedural

All meetings are open to the public. Please note that the meetings may close early if all business is finished. At the Chair's discretion, members of the public may make oral presentations during the meetings. If you would like to make an oral presentation at a meeting, please notify the Assistant Executive Director no later than March 24, 2008. Written material (20 copies) for distribution at a meeting should reach the Coast Guard no later than March 21, 2008. If you would like a copy of your material distributed to each member of the Committee or Working Groups in advance of a meeting, please submit it electronically to the Assistant Executive Director, for e-mail distribution, no later than March 21, 2008. Also at the Chair's discretion, members of the public may present comment at the end of the Public Meeting. Please understand that the Committee's schedule may be quite demanding and time for public comment may be limited.

Information on Services for Individuals With Disabilities

For information on facilities or services for individuals with disabilities or to request special assistance at the meetings, contact the Assistant Executive Director as soon as possible.

Dated: February 25, 2008.
H.L. Hime,
Acting Director of Commercial Regulations and Standards.

[FR Doc. E8-4188 Filed 3-4-08; 8:45 am]

BILLING CODE 4910-15-P